DEPARTMENT OF HEALTH AND HUMAN SERVICES

Agency for Healthcare Research and Quality

Solicitation for Nominations for Members of the U.S. Preventive Services Task Force

AGENCY: Agency for Healthcare Research and Quality (AHRQ), HHS.

ACTION: Solicits nominations for new members.

SUMMARY: The Agency for Healthcare Research and Quality (AHRQ) invites nominations of individuals qualified to serve as members of the U.S. Preventive Services Task Force (the Task Force).

The Task Force, a standing, independent panel of private-sector experts in prevention and primary care, is composed of members appointed to serve for four year terms with an option for reappointment. New members are selected each year to replace (approximately) one fourth of the Task Force members, i.e., those who are completing their appointments. Individuals nominated but not appointed in previous years, as well as those newly nominated, are considered in the annual selection process.

Task Force members meet three times a year for two days in the Washington, DC area. Member duties include reviewing and preparing comments (off site) on systematic evidence reviews prior to discussing and making recommendations on preventive services, drafting final recommendation documents, and participating in workgroups on specific topics or methods.

AHRQ particularly encourages nominations of women, members of minority populations, and persons with disabilities. Interested individuals and organizations may nominate one or more persons qualified for membership on the Task Force.

Qualification Requirements: The mission of the Task Force is to produce evidence-based recommendations on the appropriate screening, counseling, and provision of preventive medication for asymptomatic patients seen in the primary care setting. Therefore, in order to qualify for the Task Force, an applicant or nominee MUST demonstrate the following:

1. Knowledge and experience in the critical evaluation of research published in peer reviewed literature and in the methods of evidence review;

2. Understanding and experience in the application of synthesized evidence to clinical decision-making and/or policy;

3. Expertise in disease prevention and health promotion;

4. Ability to work collaboratively with peers; and,

5. Clinical expertise in the primary health care of children and/or adults, and/or expertise in counseling and behavioral interventions for primary care patients. Some Task Force members without primary health care clinical experience may be selected based on their expertise in methodological issues such as medical decision making, clinical epidemiology, behavioral medicine, and health economics.

Strongest consideration will be given to individuals who are recognized nationally or internationally for scientific leadership within their field of expertise. Applicants must have no substantial conflicts of interest that would impair in the scientific integrity of the work of the Task Force including financial, intellectual, or other conflicts.

DATES: All nominations submitted in writing or electronically, and received by Monday, July 31, 2006, will be considered for appointment to the Task Force.

Nominated individuals will be selected for the Task Force on the basis of their qualifications (in particular, those that address the required qualifications, outlined above) and the current expertise needs of the Task Force. It is anticipated that 2 individuals will be invited to serve on the Task Force beginning in January, 2007. AHRQ will retain and consider for future vacancies the nominations of those not selected during this cycle.

ADDRESSES: Submit your response to: Helen Burstin, MD MPH, ATTN: USPSTF Nominations, Center for Primary Care, Prevention, and Clinical Partnerships, Agency for Healthcare Research and Quality, 540 Gaither Road, Rockville, Maryland 20850.

Nomination Submissions

Nominations may submitted in writing or electronically, but must include (1) the applicant's current curriculum vitae, and (2) a letter explaining how this individual meets the qualification requirements and how he/she would contribute to the Task Force. The letter should also attest to the nominee's willingness to serve as a member of the Task Force.

AHRQ will later ask persons under serious consideration for membership to provide detailed information that will permit evaluation of possible significant conflicts of interest. Such information will concern matters such as financial holdings, consultancies, and research grants or contracts.

Nomination Selection

Nominations for the Task Force will be selected on the basis of qualifications as outlined above (see qualification requirements) and the current expertise needs of the Task Force.

Arrangement for Public Inspection

Nominations and applications are kept on file at the Center for Primary Care, Prevention and Clinical Partnerships, and are available for review during business hours. AHRQ does not reply to individual responses, but considers all nominations in selecting members. Information regarded as private and personal, such as a nominee's social security number, home and internet addresses, home telephone and fax numbers, or names of family members will not be disclosed to the public. This is in accord with agency confidentiality policies and Department regulations (45 CFR 5.67).

FOR FURTHER INFORMATION CONTACT: Therese Miller at therese.miller@ahrq.hhs.gov.

SUPPLEMENTARY INFORMATION:

Background

Under Title IX of the Public Health Service Act, AHRQ is charged with enhancing the quality, appropriateness, and effectiveness of health care services and access to such services. AHRQ accomplishes these goals through scientific research and promotion of improvements in clinical practice, including prevention of diseases and other health conditions, and improvements in the organization, financing, and delivery of health care services (42 U.S.C. 299-299c-7 as amended).

The Task Force is an independent expert panel, first established in 1984 under the auspices of the U.S. Public Health Service, Currently, the USPSTF, under AHRQ's authorizing legislation (see in particular, 42 U.S.C. 299b-4(a)), is convened at the call of the Director of AHRQ. The Task Force is charged with rigorously evaluating the effectiveness, cost-effectiveness and appropriateness of clinical preventive services and formulating or updating recommendations for primary are clinicians regarding the appropriate provision of preventive services. The USPSTF transitioned to a standing Task Force in 2001. Current Task Force recommendations and associated evidence reviews are available on the Internet (http://www.preventiveservices.ahrq.gov).

Dated: June 22, 2006.
Carolyn M. Clancy,
Director.

[FR Doc. 06-5782 Filed 6-28-06; 8:45 am]

BILLING CODE 4160-90-M